DEPARTMENT OF THE INTERIOR

Office of the Secretary

[16XD4523WK DWK000000.000000 DS10100000]

Proposed New Information Collection: OMB Control Number 1094-ONEW, Indian Water Rights Settlements: Economic Analysis

AGENCY: Secretary's Indian Water Rights Office, Office of the Secretary, Department of the Interior.

ACTION: Notice and request for comments.

SUMMARY: In compliance with the Paperwork Reduction Act of 1995, the Secretary's Indian Water Rights Office, Department of the Interior announces the proposed creation of a new public information collection and seeks public comments on the provisions thereof.

DATES: Consideration will be given to all comments received by December 16, 2016.

ADDRESSES: Direct all written comments to Rachel Brown, U.S. Department of the Interior, 1849 C Street NW., MS 7069-MIB, Washington, DC 20240, fax 202-208-6970, or by electronic mail to Rebrown@usbr.gov. Please mention that your comments concern the Indian Water Rights Settlements: Economic Analysis, OMB Control Number 1093-0NEW.

FOR FURTHER INFORMATION CONTACT: To request a copy of the information collection request, any explanatory information and related forms, see the contact information provided in the ADDRESSES section above.

SUPPLEMENTARY INFORMATION:

I. Abstract

This notice is for a new information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8(d)).

The Secretary's Indian Water Rights Office (SIWRO) is tasked with overseeing and coordinating the Federal Government's Indian water rights settlement program and is undertaking a study on the economic outcomes associated with Indian water rights settlements (IWRS). The purpose of the study is to identify and track social and economic changes that occur as a result of the implementation of enacted settlements. The Office of Indian Water Rights is located within the Secretary's Office. The Office leads, coordinates, and manages the Department's Indian water rights settlement program (109 Departmental Manual 1.3.E(2)).

II. Data

(1) Title: Indian Water Rights Settlements: Economic Analysis.

OMB Control Number: 1093-0NEW.

Type of Review: New Information Collection.

Affected Entities: State, Local & Tribal Governments as well as some Private Sector entities.

Estimated annual number of respondents: 48.

Frequency of responses: One time.

(2) Annual reporting and recordkeeping burden:

Total annual reporting per response: 2.73 hours.

Total number of estimated responses: 48.

Total annual reporting: 131 hours.

(3) Description of the need and use of the information. Indian reserved water rights are vested property rights for which the United States has a trust responsibility, with the United States holding legal title to such water in trust for the benefit of Indian tribes. Federal policy supports the resolution of disputes regarding Indian water rights through negotiated settlements. Settlement of Indian water rights disputes breaks down barriers and helps create conditions that improve water resources management by providing certainty as to the rights of all water users who are parties to the disputes. At a time of increasing competition for Federal funds, it is important to quantify and describe the economic impacts and net benefits of the implementation of enacted Indian water rights settlements.

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

It is our policy to make all comments available to the public for review. Before including Personally Identifiable Information (PII), such as your address, phone number, email address, or other personal information in your comment(s), you should be aware that your entire comment (including PII) may be made available to the public at any time. While you may ask us in your comment to withhold PII from public view, we cannot guarantee that we will be able to do so. If you wish to view any comments received, you may do so by scheduling an appointment with the contact provided in the ADDRESSES section above. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

David D. Alspach,
Information Collection Clearance Officer, Office of the Secretary, Department of the Interior.

[FR Doc. 2016-25044 Filed 10-14-16; 8:45 am]

BILLING CODE 4334-63-P